DEPARTMENT OF ENERGY

Federal Energy Regulatory Commission

[Project No. 2487-048]

Hydro Power, Inc., Albany Engineering Corporation; Notice of Application for Transfer of License and Soliciting Comments, Motions To Intervene, and Protests

On September 22, 2020, Hydro Power, Inc. (transferor) and Albany Engineering Corporation (transferee) filed a joint application for the transfer of license of the Hoosick Falls Hydroelectric Project No. 2487. The project is located on the Hoosick Falls, Rensselaer County, New York.

The applicants seek Commission approval to transfer the license for the Hoosick Falls Hydroelectric Project from the transferor to the transferee.

Applicants Contact: For transferor and transferee: Mr. James A. Besha, P.E., Albany Engineering Corporation, 5 Washington Square, Albany, NY 12205, Phone: (518) 456-7712 Ext. 402, Fax: (518) 456-8451, Email: jim@albanyengineering.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-2487-048. Comments emailed to Commission staff are not considered part of the Commission record.

Dated: October 26, 2020.
Kimberly D. Bose,
Secretary.

[FR Doc. 2020-24100 Filed 10-29-20; 8:45 am]

BILLING CODE 6717-01-P